DEPARTMENT OF COMMERCE

National Oceanic and Atmospheric Administration

[I.D. 062904D]

Pacific Fishery Management Council; Public Meeting

AGENCY: National Marine Fisheries Service (NMFS), National Oceanic and Atmospheric Administration (NOAA), Commerce.

ACTION: Notice of public meeting.

SUMMARY: NOAA Fisheries and the Pacific Fishery Management Council will hold a workshop, which is open to the public. The workshop is being held to discuss and review data, data sources, and analytical methodology that will be used in the 2005 stock assessments of West Coast Groundfish.

DATES: The workshop will be held on Monday, July 26, 2004, from 12:30 p.m. to 5:30 p.m., and Tuesday, July 27 through Friday, July 30, from 8:30 a.m. until business for the day is completed.

ADDRESSES: The workshop will be held at the NOAA Western Regional Center (WRC), Building 9 Auditorium, 7600 Sand Point Way NE, Seattle, WA 98115; telephone: (206) 526-6150.

Council address: Pacific Fishery Management Council, 7700 NE Ambassador Place, Suite 200, Portland, OR 97220-1384.

FOR FURTHER INFORMATION CONTACT: Ms. Stacey Miller, Northwest Fisheries Science Center (NWFSC); telephone: (206) 860-3480; or Mr. John DeVore, Pacific Fishery Management Council; telephone: (503) 820-2280.

SUPPLEMENTARY INFORMATION: The purpose of the West Coast Groundfish Data workshop is to identify data and data sources that will be used in conducting the 2005 West Coast groundfish stock assessments, discuss and review methods for converting raw data into model inputs, and explore the potential use of additional data sources in future stock assessments.

Although non-emergency issues not contained in the meeting agenda may come before the workshop participants for discussion, those issues may not be the subject of formal workshop action during this meeting. Workshop action will be restricted to those issues specifically listed in this notice and any issues arising after publication of this notice that require emergency action under section 305(c) of the Magnuson-Stevens Fishery Conservation and Management Act, provided the public has been notified of the workshop participants' intent to take final action to address the emergency.

Special Accommodations

This meeting is physically accessible to people with disabilities. Requests for sign language interpretation or other auxiliary aids should be directed to Ms. Carolyn Porter at (503) 820-2280 at least 5 days prior to the meeting date.

Entry to the NOAA WRC requires visitors to show a valid picture ID and register with security every morning. A visitor's badge, which must be worn while at the NOAA Facility, will be issued to non-Federal employees participating in the meeting.

Dated: June 30, 2004.
Alan D. Risenhoover,
Acting Director, Office of Sustainable Fisheries, National Marine Fisheries Service.

[FR Doc. E4-1473 Filed 7-2-04; 8:45 am]

BILLING CODE 3510-22-S